DEPARTMENT OF DEFENSE

Office of the Secretary

[Transmittal Nos. 12-13]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-13 with attached transmittal, policy justification, and Sensitivity of Technology.

Dated: July 2, 2012.
Aaron Siegel,
Alternate OSD Federal Register Liaison Officer, Department of Defense.

BILLING CODE 5001-06-P

BILLING CODE 5001-06-C

Transmittal No. 12-13

Notice of Proposed Issuance of Letter of Offer Pursuant to Section 36(b)(1) of the Arms Export Control Act, as amended

(i) Prospective Purchaser: Qatar

(ii) Total Estimated Value:

Major Defense Equipment * | $1.5 billion
Other | $1.0 billion
Total | $2.5 billion

(iii) Description and Quantity or Quantities of Articles or Services under Consideration for Purchase: 10 MH-60R SEAHAWK Multi-Mission Helicopters, 12 MH-60S SEAHAWK Multi-Mission Helicopters with the Armed Helicopter Modification Kit, 48 T-700 GE 401C Engines (44 installed and 4 spare) with an option to purchase an additional 6 MH-60S SEAHAWK Multi-Mission Helicopters with the Armed Helicopter Modification Kit and 13 T-700 GE 401C Engines (12 installed and 1 spare) at a later date, communication equipment, spare engine containers, support equipment, spare and repair parts, tools and test equipment, technical data and publications, personnel training and training equipment, U.S. government and contractor engineering, technical, and logistics support services, and other related elements of logistics support.

(iv) Military Department: Navy (SAG)

(v) Prior Related Cases, if any: None

(vi) Sales Commission, Fee, etc., Paid, Offered, or Agreed to be Paid: None

(vii) Sensitivity of Technology Contained in the Defense Article or Defense Services Proposed to be Sold: See Annex attached

(viii) Date Report Delivered to Congress: 26 June 2012

* As defined in Section 47(6) of the Arms Export Control Act.

POLICY JUSTIFICATION

Qatar—MH-60R and MH-60S Multi-Mission Helicopters

The Government of Qatar has requested a possible sale of 10 MH-60R SEAHAWK Multi-Mission Helicopters, 12 MH-60S SEAHAWK Multi-Mission Helicopters with the Armed Helicopter Modification Kit, 48 T-700 GE 401C Engines (44 installed and 4 spare) with an option to purchase an additional 6 MH-60S SEAHAWK Multi-Mission Helicopters with the Armed Helicopter Modification Kit and 13 T-700 GE 401C Engines (12 installed and 1 spare) at a later date, communication equipment, spare engine containers, support equipment, spare and repair parts, tools and test equipment, technical data and publications, personnel training and training equipment, U.S. government and contractor engineering, technical, and logistics support services, and other related elements of logistics support. The estimated cost is $2.5 billion.

This proposed sale will contribute to the foreign policy and national security of the United States by helping to improve the security of a friendly country that has been, and continues to be, an important force for political and economic progress in the Middle East. Qatar is a strategic partner in maintaining stability in the region. The acquisition of these helicopters will allow for greater interoperability with U.S. forces, providing benefits for training and possible future coalition operations in support of shared regional security objectives.

The proposed sale of the MH-60R and MH-60S SEAHAWK helicopters will improve Qatar's capability to meet current and future anti-surface warfare threats. Qatar will use the enhanced capability to strengthen its homeland defense. The MH-60R and MH-60S helicopters will supplement and eventually replace the Qatar Air Force's aging maritime patrol helicopters. Qatar will have no difficulty absorbing these helicopters into its armed forces.

The proposed sale of this equipment and support will not alter the basic military balance in the region.

The prime contractors will be Sikorsky Aircraft Corporation in Stratford, Connecticut, Lockheed Martin in Owego, New York, and General Electric in Lynn, Massachusetts. There are no known offset agreements proposed in connection with this potential sale.

Implementation of this proposed sale will require the assignment of fifteen contractor representatives to Qatar on an intermittent basis over the life of the case to support delivery of the MH-60R and MH-60S helicopters and provide support and equipment familiarization.

There will be no adverse impact on U.S. defense readiness as a result of this proposed sale.

Transmittal No. 12-13

Notice of Proposed Issuance of Letter of Offer Pursuant to Section 36(b)(1) of the Arms Export Control Act

Annex

Item No. vii

(vii) Sensitivity of Technology:

1. The MH-60R SEAHAWK Multi-Mission Helicopter contains new generation technology. It is equipped for a range of missions including Anti-Surface Warfare (ASuW), Search and Rescue, Naval Gun Fire Support, Surveillance, Communications Relay, Logistics Support, Personnel Transfer, and Vertical Replenishment. The fully integrated glass cockpit is equipped with four 8 inch by 10 inch full color multi-function mission and flight displays that are night vision goggle compatible and sun light readable. The pilots and aircrew have common programmable keysets, mass memory unit, mission and flight management computers, and MH-60R dedicated operational software. The navigation suite includes the LN-100G inertial navigation system with an embedded global positioning system. The helicopter is equipped with mission systems including the APS-153 Multi-Mode Radar, the AN/ALQ-210 Electronic Support Measures System, and the AN/AAS-44 Multi-Spectral Targeting Forward Looking Infrared system. Self Protection systems include the AN/AAR-47 Missile Warning Set, AN/ALQ-144A Infrared Counter Measure System, and the AN/ALE-47chaff and flare decoy dispenser.

2. The MH-60S SEAHAWK Multi-Mission Helicopter contains new generation technology. It is equipped for a range of missions including Search and Rescue, combat Search and Rescue, vertical replenishment, non-combatant evacuation operations, medical evacuation, air ambulance, special warfare support, ASuW, and maritime interdiction operations. The fully integrated glass cockpit is equipped with four 8 inch by 10 inch full color multi-function mission and flight displays that are night vision goggle compatible and sunlight readable. The pilots and aircrew have common programmable keysets, a mass memory unit, mission and flight management computers, and MH-60R/MH-60S operational software. The navigation suite includes the LN-100G inertial navigation system embedded global positioning system and inertial navigation system. The helicopter is equipped with a fully digital communications suite with ARC-210 radios for Ultra High Frequency/Very High Frequency voice communications and the Downed Aviator Locating System. The MH-60S Armed Helicopter Weapons Kit includes the AN/AAS-44 Forward Looking Infrared, external weapons systems (pylons to carry up to eight HELLFIRE air-to-surface missiles), left and right cabin window-mounted crew-served weapons (7.62 mm and .50-calibre (12.7 mm)), Electronic Warfare Self-Defense Suite (including Missile/Laser Warning Systems countermeasures, countermeasure dispensing systems), digital map, Identification Friend or Foe Mode-4 and cockpit/cabin floor armor. The MH-60S, including the mission equipment, is classified Secret.

3. If a technologically advanced adversary were to obtain knowledge of the specific hardware and software elements, the information could be used to develop countermeasures which might reduce weapon system effectiveness or be used in the development of a system with similar or advanced capabilities.

[FR Doc. 2012-16554 Filed 7-5-12; 8:45 am]

BILLING CODE 5001-06-P